DEPARTMENT OF LABOR

Occupational Safety and Health Administration

29 CFR Parts 1910 and 1915

[Docket No. OSHA-S049-2006-0675 (formerly OSHA Docket No. S-049)]

RIN 1218-AB50

General Working Conditions in Shipyard Employment

AGENCY: Occupational Safety and Health Administration (OSHA), Department of Labor.

ACTION: Proposed rule; notice of informal public hearings.

SUMMARY: OSHA is scheduling informal public hearings on the proposed rule on general working conditions in shipyard employment.

DATES: Informal public hearings: The hearings will begin at 9:30 a.m., on the following dates:

• September 9, 2008, in Washington, DC; and

• October 21, 2008, in Seattle, WA.

If necessary, the hearing will continue at the same time on subsequent days at each location.

Notice of intention to appear at the hearing: Interested persons who intend to present testimony or question witnesses at either the Washington, DC, or Seattle, WA, hearing must submit (transmit, send, postmark, deliver) a notice of their intention to do so by July 18, 2008.

Hearing testimony and documentary evidence: Interested persons who request more than 10 minutes to present testimony or who intend to submit documentary evidence at the hearing must submit (transmit, send, postmark, deliver) the full text of their testimony and all documentary evidence by August 8, 2008.

ADDRESSES: Informal public hearings: The Washington, DC, hearing will be held in the auditorium of the U.S. Department of Labor, 200 Constitution Avenue, NW., Washington, DC 20210. OSHA will announce the address of the Seattle, WA, hearing in a later Federal Register document.

Notice of intention to appear, hearing testimony and documentary evidence: You may submit (transmit, send, postmark, deliver) your notice of intention to appear, hearing testimony, and documentary evidence, identified by docket number OSHA-S049-2006-0675, by any of the following methods:

• Federal eRulemaking Portal: http://www.regulations.gov. Follow the instructions online for electronically submitting materials, including attachments;

• Fax: If your written submission does not exceed 10 pages, including attachments, you may fax it to the OSHA Docket Office at (202) 693-1648; or

• Regular mail, express delivery, hand delivery, and messenger and courier service: Submit your materials to the OSHA Docket Office, Docket No. OSHA-S049-2006-0675, U.S. Department of Labor, Room N-2625, 200 Constitution Avenue, NW., Washington, DC 20210; telephone (202) 693-2350 (TTY number (877) 889-5627). Deliveries (express mail, hand delivery, and messenger and courier service) are accepted during the Department of Labor's and OSHA Docket Office's normal hours of operation, 8:15 a.m. to 4:45 p.m., e.t.

Instructions: All submissions must include the Agency name and docket number for this rulemaking (Docket No. OSHA-S049-2006-0675). All submissions, including any personal information, are placed in the public docket without change and may be available online at http://www.regulations.gov. Therefore, OSHA cautions you about submitting certain personal information such as social security numbers and birthdates. Because of security-related procedures, the use of regular mail may cause a significant delay in the receipt of your submissions. For information about security-related procedures for submitting materials by express delivery, hand delivery, messenger, or courier service, please contact the OSHA Docket Office. For additional information on submitting notices of intention to appear, hearing testimony or documentary evidence, see the SUPPLEMENTARY INFORMATION section of this notice.

Docket: To read or download background documents as well as comments and materials submitted in response to the proposed rule or this Federal Register notice, go to Docket No. OSHA-S049-2006-0675 at http://www.regulations.gov. All submissions are listed in the http://www.regulations.gov index; however, some information (e.g., copyrighted material) is not publicly available to read or download through the Web page. All submissions and other material related to the proposed rule are available for public inspection and copying in the OSHA Docket Office. For information on reading or downloading materials in the docket and obtaining materials not available through the Web page, please contact the OSHA Docket Office.

Electronic copies of this Federal Register notice are available at http://www.regulations.gov. This notice as well as news releases and other relevant information also are available at OSHA's Web page at http://www.osha.gov.

FOR FURTHER INFORMATION CONTACT: Press inquiries: Jennifer Ashley, OSHA, Office of Communications, Room N-3647, U.S. Department of Labor, 200 Constitution Avenue, NW., Washington, DC 20210; telephone (202) 693-1999.

Technical information: Joseph Daddura, OSHA, Office of Maritime Standards, Room N-3609, U.S. Department of Labor, 200 Constitution Avenue, NW., Washington, DC 20210; telephone (202) 693-2222.

Hearings: Ms. Veneta Chatmon, OSHA, Office of Communications, Room N-3647; 200 Constitution Avenue, NW., Washington, DC 20210; telephone (202) 693-1999; e-mail chatmon.veneta@dol.gov.

SUPPLEMENTARY INFORMATION: On December 20, 2007, OSHA published a proposed rule to revise the standards on general working conditions in shipyard employment (72 FR 72451). The deadline for submitting written comments and hearing requests was March 19, 2008. OSHA received several hearing requests and is scheduling hearings to begin on September 9, 2008, in Washington, DC, and October 21, 2008, in Seattle, WA. This notice describes the procedures the public must use to participate in the hearings.

Informal public hearings—purpose, rules and procedures. OSHA invites interested persons to participate in this rulemaking by providing oral testimony and documentary evidence at the informal public hearings. In particular, OSHA invites interested persons who have knowledge of or experience with shipyard employment and the issues the proposed rule raises to participate in the hearings. OSHA also welcomes data and documentary evidence that will assist the Agency in developing a complete and accurate record.

Pursuant to section 6(b)(3) of the Occupational Safety and Health Act of 1970 (OSH Act) (29 U.S.C. 655), members of the public have an opportunity for an informal public hearing on a proposed rule and the issues it raises at which they may provide oral testimony and evidence. An administrative law judge (ALJ) presides over the hearing and resolves procedural matters relating to the hearing.

The legislative history of section 6 of the OSH Act, as well as OSHA's rules governing public hearings (29 CFR 1911.15), establish the purpose and procedures of informal public hearings. Although the presiding officer of such hearings is an ALJ and questioning of witnesses is allowed on crucial issues, the proceeding is largely informal and essentially legislative in purpose. Therefore, the hearing provides interested persons with an opportunity to make oral presentations in the absence of procedural restraints or rigid procedures that could impede or protract the rulemaking process. In addition, because the primary purpose of the hearing is to gather information and clarify the record, it is an informal administrative proceeding rather than an adjudicative one in which the technical rules of evidence apply. OSHA's rules governing public hearings and the pre-hearing guidelines that the ALJ issues for the hearings will ensure fairness and due process for participants as well as facilitate the development of a clear, accurate, and complete record. Accordingly, application of these rules and guidelines will be such that questions of relevance, procedure, and participation generally will be resolved in favor development of the record.

Conduct of the hearing will conform to OSHA's Rules of Procedure for Promulgating, Modifying, or Revoking Occupational Safety and Health Standards (29 CFR Part 1911). The rules also specify that the Assistant Secretary may, on reasonable notice, issue additional or alternative procedures to expedite the proceedings, to provide greater procedural protections to interested persons or to further any other good cause consistent with applicable law (29 CFR 1911.4). Although the ALJs who preside over the hearings make no decisions or recommendations on the merits of OSHA proposed rules, they do have the responsibility and authority necessary to ensure that the hearing progresses at a reasonable pace and in an orderly manner and to ensure that interested persons receive a full and fair hearing. To effectuate that, ALJs have the power to regulate the course of the proceedings; dispose of procedural requests, objections, and comparable matters; confine presentations to matters pertinent to the issues the proposed rule raises; use appropriate means to regulate the conduct of persons present at the hearing; question witnesses and permit others to do so; limit the time for such questioning; and leave the record open for a reasonable time after the hearing for the submission of additional data, evidence, comments and arguments (29 CFR 1911.16).

At the close of the hearing the ALJ will establish a post-hearing comment period for interested persons who filed a timely notice of intention to appear at the hearing. During the first part of the post-hearing period, those persons may submit additional data and information to OSHA. During the second part they may submit final briefs, arguments, and summations.

Notice of intention to appear at the hearing. Interested persons who intend to participate in and provide oral testimony or documentary evidence at the hearing must file a written notice of intention to appear prior to the hearing. To testify or questions witnesses at either the Washington, DC, or Seattle, WA, hearing, interested persons must submit (transmit, send, postmark, deliver) their notice by July 18, 2008. The notice must provide the following information:

• Name, address, and telephone number of each individual who will give oral testimony;

• Name of the establishment or organization each individual represents, if any;

• Occupational title and position of each individual testifying;

• Hearing location at which each individual wishes to appear and testify;

• Approximate amount of time required for each individual's testimony;

• A brief statement of the position each individual will take with respect to the issues identified in the proposed rule; and

• A brief summary of documentary evidence each individual intends to present.

OSHA emphasizes that the hearings are open to the public; however, only individuals who file a notice of intention to appear may question witnesses and participate fully at the hearing. If time permits, and at the discretion of the ALJ, an individual who did not file a notice of intention to appear may be allowed to testify at the hearing, but for no more than 10 minutes.

Hearing testimony and documentary evidence. Individuals who request more than 10 minutes to present their oral testimony at the hearing or who will submit documentary evidence at the hearing must submit (transmit, send, postmark, deliver) the full text of their testimony and all documentary evidence no later than August 8, 2008.

The Agency will review each submission and determine if the information it contains warrants the amount of time the individual requested for the presentation. If OSHA believes the requested time is excessive, the Agency will allocate an appropriate amount of time for the presentation. The Agency also may limit to 10 minutes the presentation of any participant who fails to comply substantially with these procedural requirements, and may request that the participant return for questioning at a later time. Before the hearing, OSHA will notify participants of the time the Agency is allowing for their presentation and the reasons for its decision. In addition, before the hearing OSHA will provide the pre-hearing guidelines and hearing schedule to each participant.

Certification of the hearing record and Agency final determination. Following the close of the hearing and the post-hearing comment periods, the ALJ will certify the record to the Assistant Secretary of Labor for Occupational Safety and Health. The record will consist of all of the written comments, oral testimony and documentary evidence received during the proceeding. The ALJ, however, will not make or recommend any decisions as to the content of the final standard. Following certification of the record, OSHA will review all the evidence received as part of the record and will issue the final rule based on the record as a whole.

Authority and Signature

Edwin G. Foulke, Jr., Assistant Secretary of Labor for Occupational Safety and Health, directed the preparation of this notice under the authority granted by section 6(b) of the Occupational Safety and Health Act of 1970 (29 U.S.C. 655), Secretary of Labor's Order 5-2007 (72 FR 31160), and 29 CFR part 1911.

Signed at Washington, DC on this 23rd day of June, 2008.
Edwin G. Foulke, Jr.,
Assistant Secretary of Labor for Occupational Safety and Health.

[FR Doc. E8-14672 Filed 6-24-08; 8:45 am]

BILLING CODE 4510-26-P